DEPARTMENT OF ENERGY

Federal Energy Regulatory Commission

Combined Notice of Filings #1

Take notice that the Commission received the following exempt wholesale generator filings:

Docket Numbers: EG25-305-000.

Applicants: Shallow Basket Energy, LLC.

Description: Shallow Basket Energy, LLC submits Notice of Self-Certification of Exempt Wholesale Generator Status.

Filed Date: 4/28/25.

Accession Number: 20250428-5031.

Comment Date: 5 p.m. ET 5/19/25.

Take notice that the Commission received the following electric rate filings:

Docket Numbers: ER25-2051-000.

Applicants: Massachusetts Electric Company.

Description: Tariff Amendment: 2025-04-25 Notice of Cancellation of Service Agreement No. IA-MECO-21-01 to be effective 6/25/2025.

Filed Date: 4/25/25.

Accession Number: 20250425-5247.

Comment Date: 5 p.m. ET 5/16/25.

Docket Numbers: ER25-2052-000.

Applicants: Puget Sound Energy, Inc.

Description: 205(d) Rate Filing: Powerex P-T-P SA-5012 to be effective 4/1/2025.

Filed Date: 4/28/25.

Accession Number: 20250428-5000.

Comment Date: 5 p.m. ET 5/19/25.

Docket Numbers: ER25-2053-000.

Applicants: New Wave Energy, LLC.

Description: 205(d) Rate Filing: Notice of Succession to be effective 4/26/2025.

Filed Date: 4/25/25.

Accession Number: 20250425-5265.

Comment Date: 5 p.m. ET 5/16/25.

Docket Numbers: ER25-2056-000.

Applicants: Southwest Power Pool, Inc.

Description: 205(d) Rate Filing: 4375 Skeleton Creek Energy Surplus Interconnection GIA to be effective 6/27/2025.

Filed Date: 4/28/25.

Accession Number: 20250428-5016.

Comment Date: 5 p.m. ET 5/19/25.

Docket Numbers: ER25-2057-000.

Applicants: PJM Interconnection, L.L.C.

Description: 205(d) Rate Filing: Original GIA, Service Agreement No. 7639; Project Identifier No. AF2-389 to be effective 3/28/2025.

Filed Date: 4/28/25.

Accession Number: 20250428-5037.

Comment Date: 5 p.m. ET 5/19/25.

Docket Numbers: ER25-2059-000.

Applicants: Golden Spread Electric Cooperative, Inc.

Description: 205(d) Rate Filing: Amendments to Attachment T to be effective 7/12/2025.

Filed Date: 4/28/25.

Accession Number: 20250428-5045.

Comment Date: 5 p.m. ET 5/19/25.

Docket Numbers: ER25-2060-000.

Applicants: Southwest Power Pool, Inc.

Description: 205(d) Rate Filing: 2415R22 Kansas Municipal Energy Agency NITSA and NOA to be effective 4/1/2025.

Filed Date: 4/28/25.

Accession Number: 20250428-5051.

Comment Date: 5 p.m. ET 5/19/25.

Docket Numbers: ER25-2061-000.

Applicants: Silver Run Electric, LLC.

Description: 205(d) Rate Filing: Silver Run submits revisions to Formula Rate, OATT Attachment H-27A to be effective 7/1/2025.

Filed Date: 4/28/25.

Accession Number: 20250428-5056.

Comment Date: 5 p.m. ET 5/19/25.

Docket Numbers: ER25-2062-000.

Applicants: Escalante Solar, LLC.

Description: Compliance filing: Escalante Solar LLC Change in Status Filing to be effective 6/28/2025.

Filed Date: 4/28/25.

Accession Number: 20250428-5060.

Comment Date: 5 p.m. ET 5/19/25.

Docket Numbers: ER25-2063-000.

Applicants: Southwest Power Pool, Inc.

Description: 205(d) Rate Filing: 1166R46 Oklahoma Municipal Power Authority NITSA and NOA to be effective 4/1/2025.

Filed Date: 4/28/25.

Accession Number: 20250428-5070.

Comment Date: 5 p.m. ET 5/19/25.

Docket Numbers: ER25-2064-000.

Applicants: PJM Interconnection, L.L.C.

Description: 205(d) Rate Filing: Original GIA, Service Agreement No. 7641; AG1-232 to be effective 3/28/2025.

Filed Date: 4/28/25.

Accession Number: 20250428-5083.

Comment Date: 5 p.m. ET 5/19/25.

Docket Numbers: ER25-2065-000.

Applicants: PJM Interconnection, L.L.C.

Description: 205(d) Rate Filing: Original CSA, Service Agreement No. 7642; AG1-232 to be effective 3/28/2025.

Filed Date: 4/28/25.

Accession Number: 20250428-5098.

Comment Date: 5 p.m. ET 5/19/25.

Docket Numbers: ER25-2066-000.

Applicants: Tri-State Generation and Transmission Association, Inc.

Description: 205(d) Rate Filing: Amendment to Rate Schedule FERC No. 25 to be effective 6/28/2025.

Filed Date: 4/28/25.

Accession Number: 20250428-5148.

Comment Date: 5 p.m. ET 5/19/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: April 28, 2025.
Carlos D. Clay,
Deputy Secretary.

[FR Doc. 2025-07633 Filed 5-1-25; 8:45 am]

BILLING CODE 6717-01-P